DEPARTMENT OF LABOR

Mine Safety and Health Administration

Petitions for Modification

The following parties have filed petitions to modify the application of existing safety standards under section 101(c) of the Federal Mine Safety and Health Act of 1977.

1. Eastern Associated Coal, LLC

[Docket No. M-2006-016-C]

Eastern Associated Coal, LLC, 1044 Miracle Run Road, Fairview, West Virginia 26570 has filed a petition to modify the application of 30 CFR 75.500(d) (Permissible electric equipment) to its Federal No. 2 Mine (MSHA I.D. No. 46-01456) located in Monongalia County, West Virginia. The petitioner requests a modification of the existing standard to permit the use of non-permissible battery-powered hand-held computers in or inby the last open crosscut, including in the return airways. The petitioner proposes to use the hand-held computers to allow supervisors and selected miners to collect and record data pertinent to safety observations during work processes. The petitioner has listed specific procedures in this petition that will be followed when the proposed alternative method is implemented. The petitioner asserts that the proposed alternative method would provide at least the same measure of protection as the existing standard.

2. AMFIRE Mining Company, LLC

[Docket No. M-2006-017-C]

AMFIRE Mining Company, LLC, One Energy Place, Latrobe, Pennsylvania 15650 has filed a petition to modify the application of 30 CFR 75.1100-2(e)(2) (Quantity and location of firefighting equipment) to its Gillhouser Run Mine (MSHA I.D. No. 36-09033) located in Cambria County, Pennsylvania. The petitioner requests a modification of the existing standard to permit an alternative method of compliance with the firefighting equipment required at temporary electrical installations. The petitioner proposes to use two (2) fire extinguishers or one fire extinguisher of twice the required capacity at all temporary electrical installations in lieu of using 240 pounds of rock dust. The petitioner asserts that the proposed alternative method would provide at least the same measure of protection as the existing standard.

3. Eastern Associated Coal, LLC

[Docket No. M-2006-018-C]

Eastern Associated Coal, LLC, Three Gateway Center, 401 Liberty Avenue, Suite 1340, Pittsburgh, Pennsylvania 15222 has filed a petition to modify the application of 30 CFR 75.1700 (Oil and gas wells) to its Federal No. 2 Mine (MSHA I.D. No. 46-01456) located in Monongalia County, West Virginia. The petitioner requests a modification of the existing standard to permit oil and gas wells to be plugged and abandoned in order to mine through them or to reduce the size of the barrier around them. The petitioner proposes to use the following procedures when plugging oil and gas wells: (1) Clean out and prepare oil and gas wells prior to plugging; (2) Plug oil and gas wells to the surface by setting a cement plug in the wellbore by pumping expanding cement slurry down the tubing to displace the gel and fill the borehole to the surface, and embed steel or other magnetic particles in the top of the cement to serve as a magnetic monument; (3) Plug oil and gas wells using the vent pipe method; and (4) Plug oil and gas wells for use as degasification boreholes by setting a cement plug and a degasification casing. The petitioner states that whenever the safety barrier diameter is reduced to a distance less than what the District Manager would approve pursuant to Section 75.1700, or proceeds with the intent to cut through a plugged well, additional cut-through procedures would apply. These procedures would include submitting a mining plan to the District Manager or designee for approval for each well to be intersected or where the barrier required by Section 75.1700 will be reduced. The details of these procedures can be requested from MSHA's Office of Standards, Regulations, and Variances, Room 2350, 1100 Wilson Boulevard, Arlington, Virginia 22209 via mail, or by phone, contact Barbara Barron at 202-693-9447. The petitioner asserts that the proposed alternative method would provide at least the same measure of protection as the existing standard.

Request for Comments

Persons interested in these petitions are encouraged to submit comments by any of the following methods: via E-mail: zzMSHA-Comments@dol.gov. Include “petitions for modification” in the subject line of the email; Fax: (202) 693-9441. Include “petitions for modification in the subject line of the fax; or Regular Mail/Hand Delivery/Courier: Mine Safety and Health Administration, Office of Standards, Regulations, and Variances, 1100 Wilson Boulevard, Room 2350, Arlington, Virginia 22209. If hand-delivered in person or by courier, please stop by the 21st floor first to check in with the receptionist before continuing on to the 23rd floor. All comments must be postmarked or received in that office on or before September 27, 2006. Copies of these petitions are available for inspection at that address.

Dated at Arlington, Virginia, this 21st day of August 2006.
Patricia W. Silvey,
Acting Director, Office of Standards, Regulations, and Variances.

[FR Doc. E6-14258 Filed 8-25-06; 8:45 am]

BILLING CODE 4510-43-P